DEPARTMENT OF COMMERCE

National Oceanic and Atmospheric Administration

50 CFR Part 660

[Docket No. 100804324-1265-02]

RIN 0648-XA927

Magnuson-Stevens Act Provisions; Fisheries Off West Coast States; Pacific Coast Groundfish Fishery; Pacific Whiting and Non-Whiting Allocations; Pacific Whiting Seasons

AGENCY: National Marine Fisheries Service (NMFS), National Oceanic and Atmospheric Administration (NOAA), Commerce.

ACTION: Reapportionment of non-whiting catch allocations from mothership sector to catcher/processor sector; request for comments.

SUMMARY: This notification announces the reapportionment of 4.3 metric tons (mt) of Darkblotched rockfish, 6.5 mt of Pacific Ocean Perch, 3.3 mt of Canary rockfish, and 48.3 mt of Widow rockfish from the mothership sector to the catcher/processor sector.

DATES: The reapportionment of non-whiting is effective from 1600 local time, December 14, 2011, until December 31, 2011, unless modified, superseded or rescinded. Comments will be accepted through February 3, 2012.

ADDRESSES: You may submit comments, identified by NOAA-NMFS-2010-0194 by any of the following methods:

• Electronic Submissions: Submit all electronic public comments via the Federal eRulemaking Portal, at http://www.regulations.gov. To submit comments via the e-Rulemaking Portal, first click the “submit a comment” icon, then enter (NOAA-NMFS-2010-0194) in the keyword search. Locate the document you wish to comment on from the resulting list and click on the “Submit a Comment” icon on the right of that line.

• Fax: (206) 526-6736, Attn: Kevin C. Duffy.

• Email comments directly to NMFS, Northwest Region at: Whitingreapportionment@noaa.gov.

• Mail: William W. Stelle, Jr., Regional Administrator, Northwest Region, NMFS, 7600 Sand Point Way NE., Seattle, WA 98115-0070, Attn: Kevin C. Duffy.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (if submitting comments via the Federal Rulemaking portal, enter “N/A” in the relevant required fields if you wish to remain anonymous). Attachments to electronic comments will be accepted in Microsoft Word, Excel, WordPerfect, or Adobe PDF file formats only.

FOR FURTHER INFORMATION CONTACT: Kevin C. Duffy (Northwest Region, NMFS), phone: (206) 526-4743, fax: (206) 526-6736 and email: kevin.duffy@noaa.gov.

SUPPLEMENTARY INFORMATION:

Electronic Access

This notice is accessible via the Internet at the Office of the Federal Register's Web site at http://www.gpo.gov/fdsys/search/home.action. Background information and documents are available at the Pacific Fishery Management Council's Web site at http://www.pcouncil.org/.

Background

This action is authorized by regulations implementing the Pacific Coast Groundfish Fishery Management Plan (FMP), which governs the groundfish fishery off Washington, Oregon, and California.

Regulations at 50 CFR 660.150(c)(4)(ii) provide for the Regional Administrator to make available for harvest to the catcher/processor sector of the Pacific whiting fishery, the mothership sector's nonwhiting catch allocation remaining when the Pacific whiting allocation is reached or when participants in the mothership sector do not intend to harvest the remaining allocation. Consistent with these provisions, the Whiting Mothership Cooperative Manager notified NMFS in writing on December 13, 2011 that the Whiting Mothership Cooperative had concluded their harvest of mothership sector whiting for 2011.

The best available information on December 14, 2011 indicated that approximately 4.3 metric tons mt of Darkblotched rockfish, 6.5 mt of Pacific Ocean Perch, 3.3 mt of Canary rockfish, and 48.3 mt of Widow rockfish allocated to the mothership sector for the Pacific whiting fishery in 2011, would not be used by December 31, 2011.

This notice announces the reapportionment of 4.3 mt of Darkblotched rockfish, 6.5 mt of Pacific Ocean Perch, 3.3 mt of Canary rockfish, and 48.3 mt of Widow rockfish from the mothership sector to the catcher/processor sector. The revised nonwhiting catch allocations between the catcher/processor and mothership sectors for these species are: Darkblotched rockfish, 12.8 mt, catcher/processor sector, 1.7 mt, mothership sector; Pacific Ocean Perch, 16.7 mt, catcher/processor sector, 0.66 mt, mothership sector; Canary rockfish, 8.1 mt, catcher/processor sector, 0.08 mt, mothership sector; and Widow rockfish, 135 mt, catcher/processor sector, 12.86 mt, mothership sector.

Emails sent directly to fishing businesses and postings on the Northwest Region's Internet site were used to provide actual notice to the affected fishers.

Classification

The Assistant Administrator for Fisheries, NOAA (AA), finds that good cause exists for this notification to be issued without affording prior notice and opportunity for public comment pursuant to 5 U.S.C. 553(b)(B) because such notification would be impracticable and contrary to the public interest. As previously noted, actual notice of the reapportionment was provided to fishers. Prior notice and opportunity for public comment was impracticable because NMFS had insufficient time to provide prior notice and the opportunity for public comment between the time NMFS was notified that the mothership sector had concluded its harvest and the time the fishery modifications had to be implemented in order to ensure that fisheries are managed based on the best available scientific information. Reapportioning as quickly as possible was necessary to allow fishers access to the available fish. For the same reasons, the AA also finds good cause to waive the 30-day delay in effectiveness required under 5 U.S.C. 553(d)(3).

These actions are authorized by 50 CFR 660.150(c)(4) and 660.150(c)(5) and are exempt from review under Executive Order 12866.

Authority: 16 U.S.C. 1801 et seq.

Dated: January 13, 2012.
Steven Thur,
Acting Director, Office of Sustainable Fisheries, National Marine Fisheries Service.

[FR Doc. 2012-1007 Filed 1-18-12; 8:45 am]

BILLING CODE 3510-22-P